DEPARTMENT OF THE INTERIOR

National Park Service

[NPS-WASO-CONC-15116; PPMVSCS1Y.Y00000, PPWOBSADC0]

National Park Service Concessions Management Advisory Board

AGENCY: National Park Service, Interior.

ACTION: Notice of Renewal.

SUMMARY: The Secretary of the Interior is giving notice of renewal of the National Park Service Concessions Management Advisory Board. This action is necessary and in the public interest in connection with the performance of statutory duties imposed upon the Department of the Interior and the National Park Service.

FOR FURTHER INFORMATION CONTACT: Erica Chavis, Concessions Management Specialist, National Park Service, Commercial Services Program, 1201 Eye Street NW., 11th floor, Washington, DC 20005, Telephone: (202) 513-7156.

SUPPLEMENTARY INFORMATION: The National Park Service Concessions Management Advisory Board was established by Title IV, Section 409 of Public Law 105-391, the National Parks Omnibus Management Act of 1998, November 13, 1998, with a termination date of December 31, 2008. Pursuant to Title VII, Subtitle A, Section 7403 of Public Law 111-11, the Omnibus Public Land Management Act of 2009, March 30, 2009, the Board was extended one year and terminated on December 31, 2009. On January 1, 2010, the Board was converted to a discretionary committee, provided that it is renewed every 2 years in accordance with the provisions of the Federal Advisory Committee Act, as amended (5 U.S.C. Appendix 1-16).

The advice and recommendations provided by the Board and its subcommittees fulfill an important need within the Department of the Interior and the National Park Service, and it is necessary to administratively reestablish the Board to ensure its work is not disrupted. The Board's seven members will be balanced to represent a cross-section of disciplines and expertise relevant to the National Park Service mission. The renewal of the Board comports with the requirements of the Federal Advisory Committee Act, as amended (5 U.S.C. Appendix 1-16), and follows consultation with the General Services Administration. The administrative reestablishment will be effective on the date the charter is filed pursuant to section 9(c) of the Act and 41 CFR 102-3.70.

Certification: I hereby certify that the renewal of the National Park Service Concessions Management Advisory Board is necessary and in the public interest in connection with the performance of duties imposed on the Department of the Interior by the Act of August 25, 1916, 16 U.S.C. 1 et seq., and other statutes relating to the administration of the National Park System.

Dated: March 27, 2014.
Sally Jewell,
Secretary of the Interior.

[FR Doc. 2014-08834 Filed 4-17-14; 8:45 am]

BILLING CODE 4312-53-P